DEPARTMENT OF THE INTERIOR

National Park Service

[NPS-WASO-NAGPRA-NPS0037757; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), California State University, Sacramento has completed an inventory of human remains and associated funerary objects and has determined that there is a cultural affiliation between the human remains and associated funerary objects and Indian Tribes or Native Hawaiian organizations in this notice.

DATES: Repatriation of the human remains and associated funerary objects in this notice may occur on or after May 16, 2024.

ADDRESSES: Dr. Mark Wheeler, Chief of Staff to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of California State University, Sacramento, and additional information on the determinations in this notice, including the results of consultation, can be found in the inventory or related records. The National Park Service is not responsible for the determinations in this notice.

Abstract of Information Available

In 1957, human remains representing, at minimum, one individual were removed from CA-YOL-13 in Yolo County by F.A. Riddell and W.H. Olsen of the State Indian Museum. It is not known how the collection came into the possession of California State University, Sacramento. Occupation of the site is estimated to have occurred during the Late Period. The one associated funerary object is a flaked stone.

At an unknown date, associated funerary objects were removed from CA-YOL-13 and Hall Mound by Anthony Zallio. In 1951, Zallio's estate donated the collections to California State University, Sacramento. Ancestral remains from the collections were previously repatriated in 2015, but objects from the sites were not requested during the repatriation. The 56 associated funerary objects removed from these sites includes ground and flaked stones; modified bones, shells and stones; and floral remains.

In 1960, human remains representing, at minimum, five individuals were removed from several sites in Yolo County by students from Sacramento State University (now California State University, Sacramento) under the direction of Dr. William Beeson. These sites include CA-YOL-18, CA-YOL-44, CA-YOL-51, and CA-YOL-58. The collections have been housed at California State University, Sacramento since this survey. The 48 associated funerary objects removed from these sites includes flaked and ground stones; faunal remains; modified bones, stones and shells; and unmodified stones.

Human remains representing, at minimum, two individuals, were removed from CA-YOL-45 by an unknown individual who donated a collection to the University in 1956, and during a 1960 survey of the site by students from Sacramento State University (now California State University, Sacramento) under the direction of Dr. William Beeson. Occupation of the site is estimated to have occurred during at least the Late Period. Anthony Zallio also collected human remains and cultural objects from the site, which were donated to the University in 1951. Human remains and funerary objects in the Zallio collection originating from this site were previously repatriated in 2015, but several objects were not requested at that time and are included in this notice. The 6,208 associated funerary objects removed from this site include flaked and ground stones; faunal remains; historic materials; modified bones, stones and shells; and unmodified stones. Of this number, 99 objects are currently missing from the collection. California State University, Sacramento continues to look for these 99 missing objects.

At an unknown date, associated funerary objects were removed from either CA-YOL-45 and CA-YOL-52. It is not known how these objects came into the possession of California State University, Sacramento. They were determined to come from either CA-YOL-45 or CA-YOL-52 based on their inclusion with other objects from these sites. The five associated funerary objects include flaked stones and modified bones.

In 1978, human remains representing, at minimum, 10 individuals, were removed from an unnamed site in Yolo County, California by Dr. Jerald Johnson of California State University, Sacramento as part of a salvage excavation. The human remains and artifacts were transported back to California State University, Sacramento for evaluation and curation. The 28 associated funerary objects removed from this site include baked clay objects; ground and flaked stones; faunal remains; modified shells; and floral remains.

Cultural Affiliation

Based on the information available and the results of consultation, cultural affiliation is clearly identified by the information available about the human remains and associated funerary objects described in this notice.

Determinations

California State University, Sacramento has determined that:

• The human remains described in this notice represent the physical remains of 18 individuals of Native American ancestry.

• The 6,346 objects described in this notice are reasonably believed to have been placed with or near individual human remains at the time of death or later as part of the death rite or ceremony.

• There is a reasonable connection between the human remains and associated funerary objects described in this notice and the Cachil DeHe Band of Wintun Indians of the Colusa Indian Community of the Colusa Rancheria, California; Ione Band of Miwok Indians of California; Kletsel Dehe Wintun Nation of the Cortina Rancheria (previously listed as Kletsel Dehe Band of Wintun Indians); Shingle Springs Band of Miwok Indians, Shingle Springs Rancheria (Verona Tract), California; United Auburn Indian Community of the Auburn Rancheria of California; Wilton Rancheria, California; and the Yocha Dehe Wintun Nation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 16, 2024. If competing requests for repatriation are received, California State University, Sacramento must determine the most appropriate requestor prior to repatriation. Requests for joint repatriation of the human remains and associated funerary objects are considered a single request and not competing requests. California State University, Sacramento is responsible for sending a copy of this notice to the Indian Tribes identified in this notice.

Authority: Native American Graves Protection and Repatriation Act, 25 U.S.C. 3003, and the implementing regulations, 43 CFR 10.10.

Dated: April 9, 2024.
Melanie O'Brien,
Manager, National NAGPRA Program.

[FR Doc. 2024-08045 Filed 4-15-24; 8:45 am]

BILLING CODE 4312-52-P